DEPARTMENT OF ENERGY

Federal Energy Regulatory Commission

Notice of Applications Acceptance for Filing, Soliciting Motions To Intervene and Protests, Ready for Environmental Analysis, and Soliciting Comments, Recommendations, Terms and Conditions, and Prescriptions

December 7, 2001.

Take notice that the following hydroelectric applications have been filed with the Commission and are available for public inspection.

a. Type of Applications: Three new major licenses.

b. Project Nos.: 1982-017, 2567-009, and 2670-014.

c. Date Filed: June 21, 1996, June 22, 1998, and August 24, 1998, respectively.

d. Applicant: Northern States Power Company (NSP).

e. Names of Projects: Holcombe, Wissota, and Dells.

f. Location: On the Chippewa River in Chippewa, Rusk, and Eau Claire Counties, Wisconsin. The Holcombe and Wissota projects do not utilize any federal lands, but the Dells Project utilizes 6.6 acres of federal lands, administered by the U.S. Bureau of Land Management (BLM).

g. Filed Pursuant to: Federal Power Act, 16 U.S.C. 791(a)-825(r).

h. Applicant Contact: Mr. Lloyd Everhart, Northern States Power Company, 100 North Barstow Street, P.O. Box 8, Eau Claire, WI 54702-0008, 715-839-2692.

i. FERC Contact: Mark Pawlowski; mark.pawlowski@ferc.fed.us, 202-219-2795.

j. Deadline for Filing Comments, Motions to Intervene, Recommendations, Terms and Conditions, and Prescriptions: 60 days from the issuance date of this notice.

All documents (original and eight copies) should be filed with: Linwood A. Watson, Jr., Acting Secretary, Federal Energy Regulatory Commission, 888 First Street, NE., Washington, DC 20426. Comments, protests and interventions may be filed electronically via the Internet in lieu of paper. See, 18 CFR 385.2001(a)(1)(iii) and the instructions on the Commission's Web site under the “e-Filing” link.

The Commission's Rules of Practice and Procedure require all interveners filing documents with the Commission to serve a copy of that document on the official service list for the project. Further, if an intervener files comments or documents with the Commission relating to the merits of an issue that may affect the responsibilities of a particular resource agency, the intervener also must serve a copy of the document on that resource agency.

k. Status of Environmental Analysis: These applications have been accepted for filing and are ready for environmental analysis at this time.

l. Description of the Projects (from upstream to downstream):

The Holcombe Project consists of: (1) Four earthen embankments that include: The 700-foot-long North Dike and 200-foot-long South Dike, which are part of the Holcombe Dam; and the 4,600-foot-long Holcombe Dike and 1,900-foot-long Callahan Dike, which serve as flood control measures and are normally “dry” under normal operations; (2) an impoundment with a maximum surface area of 4,300 acres, a normal water surface elevation of 1045.0 feet NGVD, 46,000 acre-feet of gross storage, and 4,300 acre-feet of usable storage under normal operations; (3) a powerhouse containing 6 vertical propeller-type turbine-generating units with a total installed capacity of 33,000 kW; (4) a 462-foot-long reinforced and mass concrete spillway equipped with 13, 30-foot-wide steel tainter gates; (5) an outdoor substation that directly connects to the NSP systemwide transmission network; and (6) appurtenant facilities. The average annual energy production is 94,021,000 kWh.

The Wissota Project consists of: (1) Six earthen embankments totaling about 7,300 feet long, and a 165-foot-long gravity dam; (2) a 904-foot-long concrete overflow spillway with 13 Stauwerke flap gates, each 64 feet wide by 10.5 feet high; (3) a 6,212-acre reservoir with a normal surface elevation of 897.1 feet NGVD, and a gross storage capacity of 162,971 acre-feet; (4) a powerhouse containing 6 vertical Francis turbine-generator units for a total installed capacity of 36,000 kW; (4) an outdoor substation that directly connects to the NSP systemwide transmission network; and (5) appurtenant facilities. The average annual energy generation is 149,392,471 kWh.

The Dells Project consists of: (1) A 396-foot-long concrete gated spillway dam with 13 Tainter gates; (2) an impoundment with a maximum surface area of 1,183 acres, a normal water surface elevation of 794.4 feet NGVD, 11,158 acre-feet of gross storage, and 2,000 acre-feet of usable storage under normal operations; (3) powerhouse A containing 5 turbine-generator units with a total installed capacity of 8,400 kW; (3) powerhouse B containing 2 turbine-generators with a total installed capacity of 1,100 kW; (4) a 1,884-foot-long transmission line; and (5) appurtenant facilities. The average annual energy production is 48,029,165 kWh.

The three Chippewa River projects are operated in close coordination with other Chippewa River hydroelectric projects owned by NSP, primarily in a peaking mode, where the projects are operated fully during the day, and shut down at night for reservoir refill. The three project reservoirs typically operate within a 1 to 2-foot drawdown range. NSP dispatch centers in Minneapolis and Eau Claire coordinate operations, depending on system electrical demand, availability of water (river flow), and costs of energy over the next 24 hours. Hydropower operations are planned one day in advance, with the objective to produce as much energy as possible during the peak electrical demand periods of the day.

As a result of negotiations among NSP, state and federal resource agencies, and non-governmental organizations (NGOs), the Lower Chippewa River Settlement Agreement (LCRSA) was filed with the Commission on February 1, 2001.¹ This agreement, which represents the resolution of all major issues related to the relicensing of the three Chippewa River projects, includes operational and other measures for protection and enhancement of environmental resources at the three projects proposed for relicensing, as well as at three other Chippewa River hydroelectric projects. These other projects include: The Cornell Project (FERC No. 2639-009), Jim Falls Project (FERC No. 2491-025, and Chippewa Falls Project (FERC No. 2440-040). Applications for amendment of license to implement the proposed operational changes at these projects were filed on February 1, 2001.² Our environmental analysis will include an assessment of the proposed environmental protection and enhancement measures at all six Chippewa River projects.

¹ This filing was noticed by the Commission on February 14, 2001.

² These filings were also noticed by the Commission on February 14, 2001.

m. Locations of the Applications: Copies of each of the three applications are available for inspection and reproduction at the Commission's Public Reference Room, located at 888 First Street, NE., Room 2A, Washington, DC 20246, or by calling (202) 208-1371. Copies of this filing are on file with the Commission and are available for public inspection. This filing may also be viewed on the Web at http://www.ferc.gov using the “RIMS” link, select “Docket#” and follow the instructions (call 202-208-2222 for assistance). Copies also are available for inspection and reproduction at the address in item h, above.

n. Filing and Service of Responsive Documents: The Commission directs, pursuant to Section 4.34(b) of the Regulations (see Order No. 533 issued May 8, 1991, 56 FR 23108, May 20, 1991) that all comments, recommendations, terms and conditions, and prescriptions concerning the applications be filed with the Commission within 60 days from the issuance date of this notice. All reply comments must be filed with the Commission within 105 days from the date of this notice. Comments, protests and interventions may be filed electronically via the Internet in lieu of paper. See, 18 CFR 385.2001(a)(1)(iii) and the instructions on the Commission's Web site under the “e-Filing” link.

Anyone may obtain an extension of time for these deadlines from the Commission only upon a showing of good cause or extraordinary circumstances in accordance with 18 CFR 385.2008.

All filings must: (1) Bear in all capital letters the title “COMMENTS”, “REPLY COMMENTS”, “RECOMMENDATIONS,” “TERMS AND CONDITIONS,” or “PRESCRIPTIONS;” (2) set forth in the heading the name of the applicant and the project number(s) of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Acting Secretary.

[FR Doc. 01-30805 Filed 12-12-01; 8:45 am]

BILLING CODE 6717-01-P